ENVIRONMENTAL PROTECTION AGENCY

[ER-FRL-9045-4]

Environmental Impact Statements; Notice of Availability

Responsible Agency: Office of Federal Activities, General Information 202-564-5632 or https://www.epa.gov/ nepa/.

Weekly receipt of Environmental Impact Statements

Filed 06/10/2019 Through 06/14/2019

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190110, Draft, USFS, UT, High Uintas Wilderness Domestic Sheep Analysis Project (Ashley and UWC National Forests), Comment Period Ends: 08/05/2019, Contact: Paul Cowley 801-999-2177

EIS No. 20190131, Final, BLM, NV, Gemfield Mine Project, Review Period Ends: 07/22/2019, Contact: Kevin Hurrell 775-635-4000

EIS No. 20190132, Draft Supplement, USFS, MT, Montanore Evaluation Project, Comment Period Ends: 08/08/2019, Contact: Craig Towery 406-293-6211

EIS No. 20190133, Draft, USFS, ID, Huckleberry Landscape Restoration Project, Comment Period Ends: 08/05/2019, Contact: Ronda Bishop 208-253-0101

EIS No. 20190134, Draft, USFWS, CA, Placer County Conservation Program Environmental Impact Statement/Environmental Impact Report, Comment Period Ends: 08/20/2019, Contact: Mike Thomas 916-414-6600

EIS No. 20190135, Draft, BLM, ID, Programmatic EIS for Fuel Breaks in the Great Basin, Comment Period Ends: 08/05/2019, Contact: Marlo Draper 208-373-3812

EIS No. 20190136, Draft, BLM, CO, Draft Eastern Colorado Resource Management Plan and Environmental Impact Statement, Comment Period Ends: 09/20/2019, Contact: John Smeins, Project Manager 719-269-8581

EIS No. 20190138, Draft, FERC, CA, Bucks Creek Hydropower Project, Comment Period Ends: 08/05/2019, Contact: Office of External Affairs 866-208-3372

Amended Notice

EIS No. 20140102, Final, USFS, ID, Lost Creek-Boulder Creek Landscape Restoration Project, Review Period Ends: 08/05/2019, Contact: Erin Phelps 208-347-0301

Revision to FR Notice Published 04/04/2014; the U.S. Department of Agriculture's Forest Service is reopening the review period to end 08/05/2019 due to an errata to the Final EIS.

Dated: June 18, 2019.
Robert Tomiak,
Director, Office of Federal Activities.

[FR Doc. 2019-13269 Filed 6-20-19; 8:45 am]

BILLING CODE 6560-50-P